NUCLEAR REGULATORY COMMISSION

[Docket No. 50-243]

Oregon State University Triga Reactor; Notice of Issuance of Environmental Assessment and Finding of No Significant Impact

The U.S. Nuclear Regulatory Commission (NRC) is considering issuance of a renewed Facility License No. R-106, to be held by the Oregon State University (OSU or the licensee), which would authorize continued operation of the Oregon State University TRIGA Reactor (OSTR), located in Corvallis, Benton County, Oregon. Therefore, pursuant to 10 CFR 51.21, the NRC is issuing an Environmental Assessment and Finding of No Significant Impact.

Description of Proposed Action

The proposed action is approval of the licensee's application for renewal of Facility License No. R-106 for a period of 20 years from the date of issuance of the renewed license. The proposed action is in accordance with the licensee's application dated October 5, 2004, as supplemented on August 8, 2005, May 24, 2006, November 10, 2006, November 21, 2006, July 10, 2007, July 27, 2007, July 31, 2007, August 6, 2007, April 14, 2008, August 6, 2008 and August 11, 2008.

The OSTR is located in the OSU Radiation Center complex on the west end of the Oregon State University campus and west of downtown Corvallis, OR. Corvallis and OSU lie in Benton County in the Willamette Valley. The OSTR site comprises the area bounded by the Reactor Building fence on the north, Jefferson Way on the south, 35th Street on the west, and the east edge of the OSU Radiation Center complex parking lot on the east. The nearest permanent residence is located 876 feet (267 m) north of the OSTR. There are no nearby industrial, transportation, or military facilities that pose a threat to the OSTR.

The OSTR is a tank-type, light water moderated and cooled research reactor licensed to operate at a steady-state power level of 1.1 megawatts thermal power (MW(t)). The reactor is licensed to operate in a pulse mode, with a maximum reactivity insertion of $2.55. A detailed description of the reactor can be found in the OSTR Safety Analysis Report (SAR). The major modifications to the Facility License were a power uprate to 1.0 MW(t) in June, 1971, and a power uprate to 1.1 MW(t) in December, 1989.

The licensee has not requested any changes to the facility design or operating conditions as part of this renewal request. The proposed action will not increase the probability or consequences of accidents. No changes are being made in the types of effluents that may be released off site. There should be no increase in occupational or public radiation exposure. Therefore, license renewal should not change the environmental impact of facility operation.

Summary of the Environmental Assessment

The NRC staff reviewed the licensee's application which included an Environmental Report. To document its review, the NRC staff has prepared an environmental assessment (EA) which discusses the OSTR site and facility; radiological impacts of gaseous, liquid, and solid effluents; environmental and personnel radiation monitoring; radiation dose estimates for the maximum hypothetical accident (MHA); impacts of the “no action” alternative to the proposed action; alternative use of resources; considerations related to the National Environmental Policy Act (NEPA); and presents the radiological and non-radiological environmental impacts of the proposed action.

Finding of No Significant Impact

On the basis of the environmental assessment, the NRC concludes that the proposed action will not have a significant effect on the quality of the human environment. Accordingly, the NRC has determined not to prepare an environmental impact statement for the proposed action.

Publicly available records will be accessible electronically from the Agencywide Documents Access and Management System (ADAMS) Public Electronic Reading Room on the NRC Web site http://www.nrc.gov/reading-rm/adams.html. For further details with respect to the proposed action, see the licensee's letter dated October 5, 2004, (ADAMS Accession No. ML043270077 and No. ML071430452), as supplemented by letters dated August 8, 2005 (ADAMS Accession No. ML052290051); May 24, 2006 (ADAMS Accession No. ML061510355); November 10, 2006 (ADAMS Accession No. ML063210182); November 21, 2006 (ADAMS Accession No. ML063320500); July 10, 2007 (ADAMS Accession No. ML072150361 and ML072150362); July 27, 2007 (ADAMS Accession No. ML072150363); July 31, 2007 (ADAMS Accession No. ML 072190043); August 6, 2007 (ADAMS Accession No. ML072340580); April 14, 2008 (ADAMS Accession No. ML081150194); August 6, 2008 (ADAMS Accession No. ML082261409); and August 11, 2008 (ADAMS Accession No. ML082270383). Documents may be examined, and/or copied for a fee, at the NRC's Public Document Room (PDR), located at One White Flint North, 11555 Rockville Pike (first floor), Rockville, Maryland. The EA can be found in ADAMS under Accession Number ML061650197. Persons who do not have access to ADAMS or who encounter problems in accessing the documents located in ADAMS should contact the NRC PDR Reference staff at 1-800-397-4209, or 301-415-4737, or send an e-mail to pdr@nrc.gov.

Dated at Rockville, Maryland, this 2nd day of September, 2008.
For the Nuclear Regulatory Commission.
Daniel S. Collins,
Chief, Research and Test Reactors Branch A, Division of Policy and Rulemaking, Office of Nuclear Reactor Regulation.

[FR Doc. E8-20699 Filed 9-5-08; 8:45 am]

BILLING CODE 7590-01-P